FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreement are available through the Commission's Web site (www.fmc.gov) or by contacting the Office of Agreements at (202)-523-5793 or tradeanalysis@fmc.gov.

Agreement No.: 012207.

Title: CMA CGM/APL Slot Exchange Agreement, North Europe & Westmed—U.S. Gulf and East Coast.

Parties: CMA CGM S.A. and American President Lines, Ltd; and APL Co. Pte Ltd. (acting as a single party).

Filing Party: Draughn Arbona, Esq.; Associate Counsel & Environmental Officer; CMA CGM (America) LLC; 5701 Lake Wright Drive; Norfolk, VA 23502.

Synopsis: The agreement would authorize the parties to exchange space with each other in the trade between the U.S. East and Gulf Coasts on the one hand, and Netherlands, Germany, Belgium, the United Kingdom, Morocco, Malta, Italy, France, Portugal, and Spain on the other hand. The parties have requested expedited review.

Dated: May 10, 2013.
By Order of the Federal Maritime Commission.
Karen V. Gregory,
Secretary.

[FR Doc. 2013-11556 Filed 5-14-13; 8:45 am]

BILLING CODE P